Title 3—

The President

Proclamation 9540 of November 10, 2016

American Education Week, 2016

By the President of the United States of America

A Proclamation

With great potential to prepare our young people for the world they will inherit and lead, education provides one of the most essential foundations for prosperity and opportunity, strengthening our democracy and civic life and serving as a pathway to economic success. It helps cultivate passion and inspire young people to build and create; analyze and discover; understand and empathize with the people around them, and through education, students can form a deeper understanding of history and society, literature and languages, and how things work and why they do. During American Education Week, we recognize the importance of education and renew our commitment to bringing a better education within reach for all our people.

America's high school graduation rate is now the highest ever recorded, and the hard work people across our country have put in is paying off. States have set higher, better standards to help us out-teach and out-compete other nations. Teachers are going that extra mile to create meaningful and memorable lessons, rather than merely teaching to a test, and we have given them more flexibility to do so through the Every Student Succeeds Act—a bipartisan bill I signed last year to improve schools, give State and local lawmakers more control, and target resources to where they are needed most. But across our country, there are unfortunately still too many places where we can do far better for our students. Too many schools are underfunded and lack the resources or structures they need to prepare students for success, and for far too many students, their zip codes still determine how far they can go.

From strengthening high-quality early education and preschool to bolstering access to higher education, my Administration has made improving our education system a priority for our students from their first days of school to the days they start their careers. Nobody should be priced out of a higher education, so we are striving to make college more affordable and provide 2 years of free community college for any student willing to work for it. We also reformed the student loan system and expanded Pell grants to more students. The demands of our global economy and changing technology require students to learn real-world skills such as computer science in the classroom, so we are bringing new technology and digital tools, including high-speed internet, into classrooms to modernize education. And because too many girls, young people of color, and low-income students are not encouraged and underrepresented in science, technology, engineering, and math (STEM) courses and careers, we are investing in ways to broaden STEM participation as well as working to train more STEM teachers.

Empowering students of all ages, backgrounds, and beliefs to challenge themselves to reach higher, education can lift up a generation, allowing them to carry the torch of progress forward and make our world a better place. This week, let us recommit to the important work that remains and ensure every student in America can access the support, resources, and opportunities they need to thrive.

NOW, THEREFORE, I, BARACK OBAMA, President of the United States of America, by virtue of the authority vested in me by the Constitution and the laws of the United States, do hereby proclaim November 13 through November 19, 2016, as American Education Week. I call upon all Americans to observe this week by supporting their local schools and educators through appropriate activities, events, and programs designed to help create opportunities for every school and student in America.

IN WITNESS WHEREOF, I have hereunto set my hand this tenth day of November, in the year of our Lord two thousand sixteen, and of the Independence of the United States of America the two hundred and forty-first.

[FR Doc. 2016-27756

Filed 11-15-16; 11:15 am]

Billing code 3295-F7-P